DEPARTMENT OF EDUCATION

[CFDA No. 84.902K]

National Assessment of Educational Progress (NAEP): Foreign Language—Item Development; Office of Educational Research and Improvement; Notice Inviting Applications for New Awards for Fiscal Year (FY) 2000

Purpose of Program

The main purpose is to develop items for the national assessment of foreign language proficiency in 2003. The program will also develop a block design or designs and screening process, assist in field test and scoring activities, and write reports. It is planned that the 2003 NAEP will be conducted at the national level in foreign language at grade 12. The foreign language to be assessed is Spanish. NAEP supports the National Education Goals by providing measures of progress toward student competency over challenging subject matter. For FY 2000, the competition for new awards focuses on projects designed to meet the priority we describe in the PRIORITY section of this application notice.

Eligible Applicants

Public, private, for-profit, and non-profit institutions, agencies, and other qualified organizations or consortia of those institutions, agencies, and organizations.

Applications Available: July 6, 2000.

Deadline for Transmittal of Applications: August 21, 2000.

Estimated Available Funds: Up to $2.5 million.

Estimated Number of Awards: 1.

Note: The Department is not bound by any estimates in this notice.

Project Period: 40 months.

Applicable Regulations: The Education Department General Administrative Regulations (EDGAR) in 34 CFR parts 74, 75, 77, 80, 81, 82, 85, 86, 97, 98 and 99.

Supplementary Information: The framework for the assessment, upon which the assessment items will be based, is formulated by the National Assessment Governing Board (NAGB). The National Assessment of Educational Progress is authorized by section 411 of the National Education Statistics Act 1994, Title IV of the Improving America's Schools Act (20 U.S.C. 9010). Section 412 (20 U.S.C. 9011) of this law requires NAGB, among other responsibilities, to formulate the policy guidelines for the national assessment. Copies of these guidelines are available from the Department.

This notice is limited to seeking applications for item development for the foreign language assessment to be conducted in 2003, and training of scorers for that assessment. This does not include data collection during field testing and actual operation of the 2003 assessment. A separate grantee will field test the items developed under this grant. The grantee under this competition will provide field test information and revise the items for the operational assessment. This grantee will also assist with scoring the 2003 operational assessment.

Priority

This competition focuses on projects designed to meet the priority which implements the policy set by the NAGB under section 412(e)(1)(A) of the National Education Statistics Act of 1994, Title IV of the Improving America's Schools Act (20 U.S.C. 9010, 9011). Under 34 CFR 75.105(c)(2) and 20 U.S.C. 9010-9011, we consider only applications that meet the following priority.

Absolute Priority—Development of the National Assessment of Educational Progress for 2003 for foreign language proficiency.

The grantee must perform this activity in accordance with guidelines developed by NAGB.

For Applications and Further Information Contact: Janis Brown, Ph.D., U.S. Department of Education, National Center for Education Statistics, 1990 K Street, NW., Suite 8089, Washington, DC 20006. Telephone: (202) 502-7400. If you use a telecommunications device for the deaf (TDD), you may call the Federal Information Relay Service (FIRS) at 1-800-877-8339.

Individuals with disabilities may obtain this document in an alternative format (e.g., Braille, large print, audiotape, or computer diskette) on request to the program contact person listed under For Applications and Further Information Contact.

Individuals with disabilities also may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, D.C., area at (202) 512-1530.

Note: The official version of this document is the document published in the Federal Register. Free Internet access to the official edition of the Federal Register and the Code of Federal Regulations is available on GPO Access at: http://www.access.gpo.gov/nara/index.html.

Program Authority: 20 U.S.C. 9010, 9011.

Dated: June 29, 2000.
C. Kent McGuire,
Assistant Secretary, Office of Educational, Research and Improvement.

[FR Doc. 00-16907 Filed 7-3-00; 8:45 am]

BILLING CODE 4000-01-U